DEPARTMENT OF THE INTERIOR

Fish and Wildlife Service

[FWS-R6-ES-2013-N009; FF06E16000-123-FXES11130600000D2]

Endangered and Threatened Wildlife and Plants; Enhancement of Survival Permit Application; Draft Black-Footed Ferret Programmatic Safe Harbor Agreement and Environmental Assessment; Reopening of Public Comment Period

AGENCY: Fish and Wildlife Service, Interior.

ACTION: Notice of availability; reopening of comment period.

SUMMARY: We, the U.S. Fish and Wildlife Service (Service), are reopening the public comment period for an application from the Black-footed Ferret Recovery Implementation Coordinator for an enhancement of survival permit under the Endangered Species Act of 1973, as amended (ESA). The documents available for public review are a draft programmatic Safe Harbor Agreement (Agreement) to reintroduce the federally endangered black-footed ferret on properties of voluntary participants across the species' range to further recovery of this species and a draft environmental assessment (EA) pursuant to the National Environmental Policy Act (NEPA). If you have previously submitted comments, please do not resubmit them, because we have already incorporated them in the public record and will fully consider them in our final decision.

DATES: Written comments must be submitted by February 22, 2013.

ADDRESSES: Send comments by U.S. mail to Kimberly Tamkun, U.S. Fish and Wildlife Service, National Black-footed Ferret Conservation Center, P.O. Box 190, Wellington, CO, 80549-0190, or via email to FerretSHA@fws.gov. You also may send comments by facsimile to (970) 897-2732. The draft Agreement and EA are available on the Black-Footed Ferret Recovery Program Web site at http://www.blackfootedferret.org/. You also may review copies of these documents during regular business hours at the National Black-footed Ferret Conservation Center (Ferret Center), 19180 North East Frontage Road Carr, CO, 80612-9719. If you do not have access to the Web site or cannot visit our office, you may request copies by telephone at (970) 897-2730 ext. 238 or by letter to the Ferret Center.

FOR FURTHER INFORMATION CONTACT: Pete Gober, Black-footed Ferret Recovery Coordinator, U.S. Fish and Wildlife Service, (970) 897-2730 ext. 224; pete_gober@fws.gov.

SUPPLEMENTARY INFORMATION: On December 19, 2012, we published a Federal Register notice (77 FR 75185) announcing the availability of the draft Agreement and EA for public review for 30 days, pursuant to the ESA (16 U.S.C. 1531 et seq.). We are providing the public more time to review these documents by reopening the public comment period for another 30 days in response to requests from the American Farm Bureau Federation, U.S. Senators Max Baucus and Jon Tester from Montana, U.S. Senators Pat Roberts and Jerry Moran from Kansas, and Congressman Tim Huelskamp from Kansas. We agree with the requesters that the additional time is needed to review the documents due to the scope and complexity of the Agreement and because the holidays occurred during the first comment period.

For background and more information on the draft Agreement and EA, see our December 19, 2012, notice (77 FR 75185). For information on where to view the documents and how to submit comments, please see the ADDRESSES section above.

Public Availability of Comments

Before including your address, phone number, email address, or other personal identifying information in your comment, you should be aware that your entire comment—including your personal identifying information—may be made publicly available at any time. While you may ask us in your comment to withhold your personal identifying information from public review, we cannot guarantee that we will be able to do so.

Authority

We provide this notice under section 10(c) of the Endangered Species Act (16 U.S.C. 1531 et seq.) and its implementing regulations (50 CFR 17.22) and the National Environmental Policy Act (NEPA) (42 U.S.C. 4371 et seq.) and its implementing regulations (40 CFR 1506.6).

Dated: January 15, 2013.
Michael Thabault,
Acting Regional Director—Ecological Services, Mountain-Prairie Region, Denver, Colorado.

[FR Doc. 2013-01292 Filed 1-22-13; 8:45 am]

BILLING CODE 4310-55-P